NATIONAL FOUNDATION ON THE ARTS AND THE HUMANITIES

National Endowment for the Arts

Arts Advisory Panel Meetings

AGENCY: National Endowment for the Arts, National Foundation on the Arts and Humanities.

ACTION: Notice of Meeting.

SUMMARY: Pursuant to section 10(a)(2) of the Federal Advisory Committee Act (Pub. L. 92-463), as amended, notice is hereby given that two meetings of the Arts Advisory Panel to the National Council on the Arts will be held by teleconference from the National Endowment for the Arts, Constitution Center, 400 7th St. SW., Washington, DC 20506 as follows (all meetings are Eastern time and ending times are approximate):

State & Regional (review of National Services Agreement): This meeting will be open.

Dates: February 12, 2015 3:00 p.m. to 4:00 p.m.

State & Regional (review of Regional Arts Organization Partnership Agreements): This meeting will be open.

Dates: February 12, 2015 4:00 p.m. to 5:00 p.m.

State & Regional (review of Regional Arts Organization Partnership Agreements): This meeting will be open.

Dates: February 18, 2015 3:00 p.m. to 4:00 p.m.

FOR FURTHER INFORMATION CONTACT: Further information with reference to these meetings can be obtained from Ms. Andi Mathis, Partnership Division National Endowment for the Arts, Washington, DC 20506; mathisa@arts.gov, or call 202/682-5430.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of title 5, United States Code.

Dated: January 20, 2015.
Kathy Plowitz-Worden,
Panel Coordinator, National Endowment for the Arts.

[FR Doc. 2015-01126 Filed 1-22-15; 8:45 am]

BILLING CODE 7537-01-P